FEDERAL COMMUNICATIONS COMMISSION

Federal Advisory Committee Act; Advisory Committee on Diversity for Communications in the Digital Age

AGENCY: Federal Communications Commission.

ACTION: Notice of intent to renew charter.

SUMMARY: In accordance with the Federal Advisory Committee Act, this notice is to announce that the Federal Communications Commission (FCC) has renewed the charter of the Advisory Committee on Diversity for Communications in the Digital Age (“Diversity Committee”).

ADDRESSES: A copy of the charter is available at the Federal Communications Commission, Reference Information Center, 445 12th Street, SW., Room 7-C753, Washington, DC 20554.

FOR FURTHER INFORMATION CONTACT: Barbara Kreisman, Barbara.Kreisman@fcc.gov, (202) 418-1605, Chief, Video Division, Media Bureau, 445 12th Street, SW., Room 2-A666, Washington, DC 20554.

SUPPLEMENTARY INFORMATION: The Committee's objective is to provide recommendations to the FCC regarding policies and practices that will further enhance diverse participation in the telecommunications and related industries. In particular, the Committee will focus primarily on lowering barriers to entry to communications and related industries for historically disadvantaged men and women, exploring ways in which to ensure universal access to and adoption of broadband in historically disadvantaged communities, and creating an environment that enables employment of a diverse workforce within the communications and related industries. The Committee is charged with gathering the data and information necessary to formulate meaningful recommendations for the objectives outlined above. In developing its recommendations, the Committee will consider industry-based as well as targeted regulatory solutions to challenges identified by the data and information it gathers. Additional information regarding the Diversity Committee can be found at http://www.fcc.gov/DiversityFAC.

Federal Communications Commission.
Barbara A. Kreisman,
Chief, Video Division, Media Bureau.

[FR Doc. 2011-1939 Filed 1-27-11; 8:45 am]

BILLING CODE 6712-01-P